DEPARTMENT OF HOMELAND SECURITY

Coast Guard

33 CFR Part 165

[Docket No. USCG-2008-1017]

RIN 1625-AA11

Regulated Navigation Areas; Bars Along the Coasts of Oregon and Washington

AGENCY: Coast Guard, DHS.

ACTION: Notice of public meeting; reopening of comment period.

SUMMARY: The Coast Guard announces two public meetings to receive comments on the notice of proposed rulemaking entitled “Regulated Navigation Areas; Bars Along the Coasts of Oregon and Washington” that was published in the Federal Register on February 12, 2009 (74 FR 7022). The Coast Guard is also reopening the period for public comment on that notice of proposed rulemaking.

As stated in the notice of proposed rulemaking, the Coast Guard proposes to establish Regulated Navigation Areas (RNA) covering specific bars along the coasts of Oregon (OR) and Washington (WA) that will include procedures for restricting and/or closing those bars as well as additional safety requirements for recreational and small commercial vessels operating in the RNAs. The RNAs are necessary to help ensure the safety of the persons and vessels operating in those hazardous bar areas. The RNAs will do so by establishing clear procedures for restricting and/or closing the bars and mandating additional safety requirements for recreational and small commercial vessels operating in the RNAs when certain conditions exist.

DATES: The comment period for the proposed rule published at 74 FR 7022, Feb. 12, 2009 is reopened and will close on April 19, 2009. All comments and related material must be received by the Coast Guard on or before April 19, 2009. The public meetings for the proposed rule will be held in Astoria, OR, on Tuesday, April 14, 2009, from 6 p.m. to 9 p.m., and in Newport, OR, on Wednesday, April 15, 2009, from 6 p.m. to 9 p.m., in order to provide an opportunity for oral comments. Please note that the meetings may close early if all business is finished. Written comments and related material may also be submitted to Coast Guard personnel specified at that meeting.

ADDRESSES: The public meeting in Astoria, OR, will be held at “The Loft” at the Red Building, 20 Basin Street, Astoria, OR 97103, telephone 503-325-2223. The public meeting in Newport, OR, will be held at The Embarcadero Resort Hotel & Marina, 1000 SE Bay Blvd., Newport, OR 97365, telephone 541-265-8521 or 1-800-547-4779.

You may submit written comments identified by docket number USCG-2008-1017 before or after the meeting using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. Our online docket for this rulemaking is available on the Internet at http://www.regulations.gov under docket number USCG-2008-1017.

FOR FURTHER INFORMATION CONTACT: If you have questions concerning the meeting or the proposed rule, please call or e-mail LCDR Emily Saddler, Thirteenth Coast Guard District, Prevention Division, Inspections and Investigations Branch, telephone 206-220-7210, e-mail Emily.C.Saddler@uscg.mil. If you have questions on viewing or submitting material to the docket, call Ms. Renee V. Wright, Program Manager, Docket Operations, telephone 202-366-9826.

SUPPLEMENTARY INFORMATION:

Background and Purpose

We published a notice of proposed rulemaking (NPRM) in the Federal Register on February 12, 2009 (74 FR 7022), entitled “Regulated Navigation Areas; Bars Along the Coasts of Oregon and Washington.” In it we stated that we did not plan to hold a public meeting, but that we welcomed requests explaining why one would be beneficial (74 FR 7023). We received several such requests and have concluded that a public meeting would aid this rulemaking. Therefore, we are publishing this notice.

In the NPRM, we propose to establish Regulated Navigation Areas (RNA) covering specific bars along the coasts of Oregon and Washington that will include procedures for restricting and/or closing those bars as well as additional safety requirements for recreational and small commercial vessels operating in the RNAs. The RNAs are necessary to help ensure the safety of the persons and vessels operating in those hazardous bar areas. The RNAs will do so by establishing clear procedures for restricting and/or closing the bars and mandating additional safety requirements for recreational and small commercial vessels operating in the RNAs when certain conditions exist.

You may view the NPRM in our online docket, in addition to supporting documents prepared by the Coast Guard, including an “Environmental Analysis Checklist” and RNA Fact Sheets for recreational, passenger, and commercial fishing vessels, and comments submitted thus far by going to http://www.regulations.gov. Once there, select the Advanced Docket Search option on the right side of the screen, insert USCG-2008-1017 in the Docket ID box, press Enter, and then click on the item in the Docket ID column. You may also visit the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

We encourage you to participate in this rulemaking by submitting comments either orally at the meetings or in writing. If you bring written comments to the meetings, you may submit them to Coast Guard personnel specified at the meetings to receive written comments. These comments will be submitted to our online public docket. All comments received will be posted without change to http://www.regulations.gov and will include any personal information you have provided.

Comments submitted after the meetings must reach the Coast Guard on or before April 19, 2009. If you submit a comment online via http://www.regulations.gov, it will be considered received by the Coast Guard when you successfully transmit the comment. If you fax, hand deliver, or mail your comment, it will be considered as having been received by the Coast Guard when it is received at the Docket Management Facility.

Anyone can search the electronic form of comments received into any of our dockets by the name of the individual submitting the comment (or signing the comment, if submitted on behalf of an association, business, labor union, etc.). You may review a Privacy Act notice regarding our public dockets in the January 17, 2008, issue of the Federal Register (73 FR 3316).

Information on Service for Individuals With Disabilities

For information on facilities or services for individuals with disabilities or to request special assistance at the public meeting, contact LCDR Emily Saddler at the telephone number or e-mail address indicated under the FOR FURTHER INFORMATION CONTACT section of this notice.

Public Meeting

The Coast Guard will hold a public meeting regarding its “Regulated Navigation Areas; Bars Along the Coasts of Oregon and Washington” proposed rule on Tuesday, April 14, 2009, from 6 p.m. to 9 p.m, at The Loft at the Red Building, 20 Basin Street, Astoria, OR 97103, telephone 503-325-2223, and on Wednesday, April 15, 2009, from 6 p.m. to 9 p.m., at The Embarcadero Resort Hotel & Marina, 1000 SE Bay Blvd., Newport, OR 97365, telephone 541-265-8521 or 1-800-547-4779.

We plan to have an official transcript of the meetings prepared and will make that transcript available through a link in our online docket.

Dated: March, 30, 2009.
J.P. Currier,
Rear Admiral, U.S. Coast Guard, Commander, Thirteenth Coast Guard District.

[FR Doc. E9-8266 Filed 4-7-09; 8:45 am]

BILLING CODE 4910-15-P